NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on November 8-10, 2001, in Conference Room T-2B3, 11545 Rockville Pike, Rockville, Maryland. The date of this meeting was previously published in the Federal Register on Friday, November 17, 2000 (65 FR 69578).

Thursday, November 8, 2001

8:30 A.M.-8:35 A.M.: Opening Remarks by the ACRS Chairman (Open)—The ACRS Chairman will make opening remarks regarding the conduct of the meeting.

8:35 A.M.-10 A.M.: Final Review of the Hatch License Renewal Application (Open)—The Committee will hear presentations by and hold discussions with representatives of the NRC staff and the Southern Nuclear Operating Company regarding the license renewal application for the Edwin I. Hatch Nuclear Plant Units 1 and 2, and the associated NRC staff's final Safety Evaluation Report (SER).

10:20 A.M.-12:30 P.M.: Dresden and Quad Cities Core Power Uprate (Open/Closed)—The Committee will hear presentations by and hold discussions with representatives of the NRC staff and Exelon Generation Company regarding the license amendment request to increase the core thermal power level for Dresden Nuclear Power Station Units 2 and 3 and the Quad Cities Nuclear Power Station Units 1 and 2, and the associated NRC staff's SER.

[Note: A portion of this session may be closed to discuss General Electric Nuclear Energy proprietary information applicable to this matter.]

1:30 P.M.-3:30 P.M.: Safety Research Program (Open)—The Committee will hear presentations by and hold discussions with representatives of the NRC Office of Nuclear Regulatory Research regarding the vision and expectations of the NRC Safety Research Program.

3:50 P.M.-5 P.M.: Proposed Update to 10 CFR part 52 (Open)—The Committee will hear presentations by and hold discussions with representatives of the NRC staff regarding the proposed update to 10 CFR part 52 that is based on experience gained from previous design certification reviews and discussions with stakeholders on the early site permit and combined license processes.

5:15 P.M.-7 P.M.: Discussion of Proposed ACRS Reports (Open)—The Committee will discuss proposed ACRS reports on matters considered during this meeting as well as proposed reports on Final Review of the Hatch License Renewal Application, Dresden and Quad Cities Core Power Uprate, and Proposed Update to 10 CFR part 52.

Friday, November 9, 2001

8:30 A.M.-8:35 A.M.: Opening Remarks by the ACRS Chairman (Open)—The ACRS Chairman will make opening remarks regarding the conduct of the meeting.

8:35 A.M.-10:30 A.M.: Circumferential Cracking of PWR Vessel Head Penetrations (Open)—The Committee will hear a presentation by and hold discussions with representatives of the NRC staff regarding the status of staff activities associated with resolving issues related to circumferential cracking of pressurized water reactor (PWR) vessel head penetrations, including control rod drive mechanism nozzles.

10:50 A.M.-12:15 P.M.: Licensing Approach for the Pebble Bed Modular Reactor Design (Open)—The Committee will hear remarks by Dr. Kress and Dr. Powers regarding the October 10-12, 2001 future plant design workshop organized by the NRC Office of Nuclear Regulatory Research. Also the Committee will hear a presentation by and hold discussions with representatives of the NRC staff regarding the licensing approach for the Pebble Bed Modular Reactor design.

1:15 P.M.-2 P.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

2 P.M.-2:15 P.M.: Reconciliation of ACRS Comments and Recommendations (Open)—The Committee will discuss the responses from the NRC Executive Director for Operations (EDO) to comments and recommendations included in recent ACRS reports and letters. The EDO responses are expected to be made available to the Committee prior to the meeting.

2:30 P.M.-4:30 P.M.: Discussion of Topics for Meeting with the NRC Commissioners (Open)—The Committee will discuss the following topics for meeting the NRC Commissioners on December 5, 2001:

• Regulatory Challenges for Future Plant Designs

• Reactor Oversight Process

• ACRS Activities Associated with Power Uprates and Related Matters

• ACRS Activities Associated with License Renewal and Related Matters

4:30 P.M.-7 P.M.: Discussion of Proposed ACRS Reports (Open)—The Committee will discuss proposed ACRS reports.

Saturday, November 10, 2001

8:30 A.M.-12:30 P.M.: Discussion of Proposed ACRS Reports (Open)—The Committee will continue its discussion of proposed ACRS reports.

12:30 P.M.-1 P.M.: Miscellaneous (Open)—The Committee will discuss matters related to the conduct of Committee activities and matters and specific issues that were not completed during previous meetings, as time and availability of information permit.

Procedures for the conduct of and participation in ACRS meetings were published in the Federal Register on October 3, 2001 (66 FR 50462). In accordance with those procedures, oral or written views may be presented by members of the public, including representatives of the nuclear industry. Electronic recordings will be permitted only during the open portions of the meeting and questions may be asked only by members of the Committee, its consultants, and staff. Persons desiring to make oral statements should notify Dr. Sher Bahadur, ACRS, five days before the meeting, if possible, so that appropriate arrangements can be made to allow necessary time during the meeting for such statements. Use of still, motion picture, and television cameras during the meeting may be limited to selected portions of the meeting as determined by the Chairman. Information regarding the time to be set aside for this purpose may be obtained by contacting Dr. Sher Bahadur prior to the meeting. In view of the possibility that the schedule for ACRS meetings may be adjusted by the Chairman as necessary to facilitate the conduct of the meeting, persons planning to attend should check with Dr. Sher Bahadur if such rescheduling would result in major inconvenience.

In accordance with Subsection 10(d) Pub. L. 92-463, I have determined that it is necessary to close a portion of this meeting noted above to discuss proprietary information per 5 U.S.C. 552b(c)(4).

Further information regarding topics to be discussed, whether the meeting has been canceled or rescheduled, the Chairman's ruling on requests for the opportunity to present oral statements, and the time allotted therefor can be obtained by contacting Dr. Sher Bahadur (telephone 301-415-0138), between 7:30 a.m. and 4:15 p.m., EDT.

ACRS meeting agenda, meeting transcripts, and letter reports are available for downloading or viewing on the Internet at http://www.nrc.gov/ACRSACNW. Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment and facilities that they use to establish the videoteleconferencing link. The availability of videoteleconferencing services is not guaranteed.

Dated: October 17, 2001.
Andrew L. Bates,
Advisory Committee Management Officer.

[FR Doc. 01-26690 Filed 10-22-01; 8:45 am]

BILLING CODE 7590-01-P